DEPARTMENT OF LABOR

Employment and Training Administration

[TA-W-59,554]

Georgia Pacific Corporation, Mason Street Opertions, Green Bay, WI; Notice of Termination of Investigation

Pursuant to section 221 of the Trade Act of 1974, an investigation was initiated on June 13, 2006 in response to a petition filed by a company official on behalf of workers at Georgia Pacific Corporation, Mason Street Operations, Green Bay, Wisconsin (TA-W-59,554).

The petitioner has requested that the petition be withdrawn. Consequently, further investigation in this case would serve no purpose, and the investigation has been terminated.

Signed in Washington, DC, this 10th day of July, 2006.
Linda G. Poole,
Certifying Officer, Division of Trade Adjustment Assistance.

[FR Doc. E6-12205 Filed 7-28-06; 8:45 am]

BILLING CODE 4510-30-P